DEPARTMENT OF TRANSPORTATION

Office of the Secretary

[Docket No. DOT-OST-2012-0028]

Application To Reinstate Information Collection Request OMB No. 2105-0566

AGENCY: Office of the Secretary (OST), Department of Transportation (Department or DOT).

ACTION: Notice and request for comments.

SUMMARY: In compliance with the Paperwork Reduction Act of 1995 (44 U.S.C. 3501 et seq.), this notice announces that the request for reinstatement of an Office of Management and Budget (OMB) Control Number for the Information Collection Request (ICR) abstracted below is being forwarded to the OMB for review and comments. A Federal Register Notice with a 60-day comment period soliciting comments on the following information collection was published on February 12, 2024.

DATES: Comments on this notice must be received by July 17, 2024.

ADDRESSES: Written comments and recommendations for the proposed ICR should be sent within 30 days of publication of this notice to www.reginfo.gov/public/do/PRAMain. Find this particular ICR by selecting “Currently under 30-day Review—Open for Public Comments” or by using the search function.

FOR FURTHER INFORMATION CONTACT: Daeleen Chesley, Office of the General Counsel, Office of the Secretary, U.S. Department of Transportation, 1200 New Jersey Avenue SE, Washington, DC 20590, 202-366-9342 (Voice), or Daeleen.Chesley@dot.gov (Email). Arrangements to receive this document in an alternative format may be made by contacting the above-named individuals.

SUPPLEMENTARY INFORMATION:

Title: Submission of U.S. Carrier and Airport Tarmac Delay Emergency Contingency Plans Pursuant to FAA Modernization and Reform Act.

OMB Control Number: 2105-0566.

Type of Request: Request to reinstate OMB control number 2105-0566.

Abstract: The FAA Modernization and Reform Act (Act), which was signed into law on February 14, 2012, requires U.S. carriers that operate scheduled passenger service or public charter service using any aircraft with a design capacity of 30 or more seats, and operators of large hub, medium hub, small hub, or non-hub U.S. airports, to submit emergency contingency plans for lengthy tarmac delays to the Secretary of Transportation for review and approval. In addition to requiring the initial submission of emergency contingency plans, the Act requires U.S. air carriers to submit an updated plan every 3 years and U.S. airport operators to submit an updated plan every 5 years. The Act further requires each covered carrier and airport to ensure public access to its plan after DOT approval by posting the plan on its website. DOT has an online system by which covered U.S. air carriers and U.S. airports can submit the required plans.¹

¹ OACP is modernizing its consumer complaints database to provide a more efficient means for air carriers and airports to submit their plans. Should the submission process change prior to the date plans are due, OACP will give covered entities advance notice of the revised procedure for plan submission.

On June 2, 2015, DOT published a 60-day FR Notice to renew/reinstate the OMB control number (80 FR 31455) and on June 17, 2016, a 30-day FR notice was published (81 FR 39750). On February 23, 2017, OMB reinstated the OMB control number, which expired on February 29, 2020. DOT is seeking reinstatement of that number.²

² We note that the information collection requirements are specifically required by statute and are not imposed as an exercise of the DOT's discretion.

The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On February 12, 2024, OST published a 60-day notice in the Federal Register soliciting comment on ICRs for which the agency was seeking OMB approval. See 89 FR 29 at 9906. OST received no comments after issuing this notice. Accordingly, the Department announces that these information collection activities have been re-evaluated and certified under 5 CFR. 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

For each of these information collections, the title, a description of the respondents, and an estimate of the annual recordkeeping and periodic reporting burden are set forth below:

1. Requirement to submit tarmac delay contingency plan to DOT for review and approval.

Title: Filing of Tarmac Delay Contingency Plan to DOT.

Respondents: Each large, medium, small and non-hub airport in the U.S.; U.S. carriers that operate scheduled passenger service or public charter service using any aircraft with a design capacity of 30 or more seats.

Estimated Number of Respondents: 391 U.S. airports ³ and 76 U.S. airlines.⁴

³ Based on FAA CY22 information, there are 31 large, 33 medium, 73 small, and 254 non-hub covered airports. See, https://www.faa.gov/sites/faa.gov/files/2023-09/cy22-commercial-service-enplanements.pdf.

⁴ The number of covered airlines was calculated using current data provided to OACP by the Bureau of Transportation Statistics (BTS).

Frequency: Every 5 years for covered U.S. airports; every 3 years for covered U.S. airlines.

Estimated Total Burden on Respondents:

For U.S. airports—195.5 hours (391 existing airports × .5 hours = 195.5 hours). This estimate is based on the following facts/assumptions: Tarmac delay plans for submission are general in nature and do not consist of extensive airport-specific customization. Airport associations prepared templates for use by U.S. airports which require very little additional information to be customized for individual airports and have been the templates for most of the airport plans submitted. For U.S. airports that have already prepared and submitted a plan and will continue to be subject to this requirement, they will need to review and update the plan through the DOT's electronic submission system. We estimate .5 hour for these 391 airports to review, update, and submit the plan through the DOT's electronic submission system.⁵

⁵ The total number of airports required to submit plans has decreased from 401 to 391 (−10 airports). The burden is calculated with the assumption that no new airports need to submit a plan. However, if there are any new airports that are required to submit a plan, the burden estimate for such an airport would be two hours.

For U.S. airlines—54.5 hours [(65 existing carriers × .5 hours = 32.5 hours) + (11 new carrier × 2 hours = 22 hours) = 54.5 hours]. Although airlines often choose to prepare more detailed plans for internal use, airline plans for submission generally are not very detailed and provide only the level of information required to meet the statutory requirement. In addition, currently operating U.S. carriers are already required to have such plans in place as this is a continuing requirement and the statute has been in place since 2012. Therefore, we estimate that the 65 covered U.S. carriers will spend .5 hour to review, update, and submit the plan through the DOT's electronic submission system. For the 11 carriers that had not prepared and submitted a plan to meet the requirement in 2017, we estimate 2 hours to review and prepare the templates, and to submit the plan through the DOT's electronic submission system.⁶

⁶ Based on CY 2022 information provided by the Bureau of Transportation Statistics (BTS), the number of covered carriers that must submit plans increased from 65 to 76 (+11 carriers). As such, the estimated burden for U.S. carriers has slightly increased.

2. Requirement to ensure public access to tarmac delay plan after DOT approval (as required by the Act).

Title: Posting of Tarmac Delay Contingency Plan on websites.

Respondents: Each large, medium, small and non-hub airport in the U.S.; U.S. carriers that operate scheduled passenger service or public charter service operating to or from the United States, using any aircraft with a design capacity of 30 or more seats.

Estimated Number of Respondents: 391 U.S. airports and 76 U.S. airlines.

Estimated Total Frequency: Every 5 years for covered U.S. airports; every 3 years for covered U.S. airlines (if not already posted or if there are updates).

Burden on Respondents: 116.75 hours [(391 airports × .25 hours = 97.75 hours) + (76 airlines × .25 hours = 19 hours) = 116.75 hours]. We estimate that the time to upload a plan to a website is 15 minutes as covered U.S. carriers and airports are already required to have such plans in place and plans are generally short and do not take long to upload.

Public Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents without reducing the quality of the collection of information, including the use of automated collection techniques or other forms of information technology. All comments will also become a matter of public record.

Authority: The Paperwork Reduction Act of 1995; 44 U.S.C. Chapter 35, as amended; and 49 CFR 1.26, 1.27, 1.48 and 1.49; DOT Order 1351.29.

Issued in Washington, DC.
Livaughn Chapman Jr.,
Deputy Assistant General Counsel for the Office of Aviation Consumer Protection.

[FR Doc. 2024-13265 Filed 6-14-24; 8:45 am]

BILLING CODE 4910-9X-P